NATIONAL SCIENCE FOUNDATION

Implementation of Scientific Integrity Principles: Draft Plan for Public Comment

AGENCY: National Science Foundation.

ACTION: National Science Foundation (NSF) Implementation of Scientific Integrity Principles: Draft Plan for Public Comment.

SUMMARY: On March 9, 2009, President Obama issued a Memorandum for the Heads of Executive Departments and Agencies on Scientific Integrity. Shortly thereafter the Office of Science and Technology Policy (OSTP) led an interagency task group to develop an implementation strategy, and NSF was represented on the task group. On December 17, 2010, the OSTP Director issued a Memorandum with implementation guidance (for copies of both memoranda, see: http://www.whitehouse.gov/administration/eop/ostp/library/scientificintegrity).

NSF is fully committed to its efforts to ensure that our processes will advance the goals articulated in the Memoranda. This report summarizes NSF practices both current and planned to maintain and enhance scientific integrity across our S&E community. The report is organized according to the major headings and topics of the December 2010 OSTP Memorandum.

DATES: Comments on the report are welcome before September 6, 2011. Comments will be useful in shaping the agency's implementation. Please send comments to siip_comments@nsf.gov. All comments received before the close of the comment period will be available for public inspection, including any personally identifiable or confidential business information that is included. Because they will be made public, comments should not include any sensitive information.

FOR FURTHER INFORMATION CONTACT: siip_comments@nsf.gov.

I. Foundations of Scientific Integrity In Government

NSF works to maintain a culture of scientific integrity. Although NSF does not employ government scientists to conduct intramural research on behalf of the federal government, we do fund basic science and engineering research and education through awards to colleges and universities through the country. Consequently, we strongly believe that research results should be objective and not influenced by a potential awardee's financial interests or affiliations. We are one of only two agencies within the Federal Government that has an investigator conflict-of-interest policy that requires our grantee institutions to (1) Collect financial disclosure reports from investigators; (2) review financial disclosure reports; and (3) manage, reduce, or eliminate any conflicts of interest prior to the expenditure of any award funds.

In addition to ensuring research results are not influenced by conflicts of interest, NSF has a thorough and rigorous conflict of interest merit review process. And we expect the scientists and engineers at NSF who conduct our merit review process and make funding decisions to adhere to the highest standards of ethical conduct. This includes civil service employees and contractors; visiting scientists, engineers, and educators; and those working at NSF under the Intergovernmental Personnel Act.

NSF's internal procedures (http://www.nsf.gov/publications/pub_summ.jsp?ods_key=manual15) summarize the various government conflicts rules that guide NSF staff.

NSF staff who report information on potential violations of rules and regulations are protected from retaliation; NSF participates in the Office of Special Counsel's (OSC) 2302(c) Certification Program which allows federal agencies to meet the statutory obligation to inform their workforces about the rights and remedies available to them under the Whistleblower Protection Act (WPA) and related civil service laws. (See: http://www.nsf.gov/od/odi/nofear/notice.jsp and http://www.osc.gov/outreachAgenciesCertified.htm.)

Similarly, NSF awardees, whether current or prospective, also are expected to adhere to high standards of ethical conduct. All allegations of research misconduct are promptly reported to the Office of the Inspector General (OIG). (See: http://www.nsf.gov/oig/misconscieng.jsp; 45 CFR part 689 http://law.justia.com/us/cfr/title45/45cfr689_main_02.html).

NSF awardees are also subject to the responsible conduct of research requirement of the America COMPETES Act of 2007 (Pub. L. 110-69). In accordance with Section 7009, NSF requires awardees to provide appropriate training and oversight in the responsible and ethical conduct of research to undergraduates, graduate students, and postdoctoral researchers who will be supported by NSF to conduct research. (For more information on NSF's implementation of Section 7009, please see http://edocket.access.gpo.gov/2009/E9-19930.htm.)

Facilitating the free flow of scientific and technological information and maintaining open communication are critical to NSF. The Foundation participates in the Administration's Open Government Initiative (http://www.nsf.gov/open). Through this initiative, NSF publishes high-value datasets such as information on Freedom of Information Act requests, Graduate Research Fellowship Award recipients, abstracts of all funded NSF awards, and NSF funding rates. Another way that NSF facilitates the free flow of information is through Research.gov (http://www.research.gov), a portal that provides information on research spending and results. Research.gov publishes summaries of results supported by NSF. For awards made effective January 2010, the Foundation requires investigators to submit a brief summary, prepared specifically for the public, on the nature and outcomes of their NSF-funded award (See Award & Administration Guide, Chapter II: http://www.nsf.gov/pubs/policydocs/pappguide/nsf11001/aag_2.jsp.)

II. Public Communications

The Office of Legislative and Public Affairs (OLPA) is the authorized news media liaison for NSF. Within OLPA, the Public Affairs staff works to promote science, engineering and education research coverage in mainstream and targeted media, facilitating the timely release of accurate information. The overriding goal is openness and accessibility. In this section, NSF proposes a revised media policy as follows:

Media Policy: Purpose

This document establishes NSF's media policy governing media communications including advisories, press releases, statements, interviews, news conferences, and other related media contacts. Federal public affairs offices have been established to facilitate the active dissemination of agency research results and to coordinate media and public relations activities. A principal goal of public affairs is to help NSF most efficiently achieve its agency mission through policy making based on sound and objective science.

Media Policy: Rights

NSF-funded scientists and staff have the fundamental right to express their personal views, provided they specify that they are not speaking on behalf of, or as a representative of, the agency but rather in their private capacity. So long as this disclaimer is made, the employee is permitted to mention his or her institutional affiliation and position if this has helped inform his or her views on the matter.

Employees have the right to review, approve, and comment publicly on the final version of any proposed publication that significantly relies on their research, identifies them as an author or contributor, or purports to represent their scientific opinion.

Media Policy: Responsibilities

NSF's public affairs office is responsible for:

• promoting media attention on important scientific and institutional developments;

• coordinating and facilitating contact between journalists and the requested agency staff;

• providing both reporters and scientists with timely, accurate, and professional media assistance; and

• providing draft press releases or other public statements to agency scientists whose work is included, to assure the accuracy of scientific information being communicated.

NSF employees are responsible for working with the agency's public affairs staff to make significant research developments accessible and comprehensible to the public.

NSF employees are responsible for the accuracy and integrity of their communications and should not represent the agency on issues of politics or policy without prior approval from the public affairs office.

Media Policy: Media and Public Interactions

To help NSF public affairs best fulfill its responsibilities, agency employees should:

• Keep the public affairs office informed of any media interest or potential for interest in their work;

• Notify the public affairs office of impending media contacts and provide the public affairs office with a recap of the non-confidential aspects of the media conversation afterward;

• Review drafts of press releases written by staff from the public affairs office both for their format and non-scientific content, as well as for the accuracy of scientific information being communicated; and

• Work with the public affairs office to review presentations or news conferences for their format and content to assure the accuracy of scientific information being communicated.

NSF's public affairs officers should:

• Respond to all initial media inquiries as soon as possible, but seeking to respond within 30 minutes whenever possible;

• Do all they can to help reporters get the appropriate information needed for an article;

• Know the reporter's deadline to ensure timely response;

• Provide contact information where they will be available, even after hours, on weekends, and on holidays;

• Draft press releases and/or other multimedia products whenever warranted;

• Ensure a timely turnaround on press releases (within one week or less);

• Develop (or coordinate the development of) talking points in collaboration with the relevant experts for the release of scientific papers and other agency products; and

• Assure agency compliance with the No Fear Act (a federal law that holds agencies accountable for violations of employee protection laws) by informing employees of their rights under federal anti-discrimination and whistleblower protection laws.

Media Policy: Media Coverage

In the spirit of openness, media representatives should be granted free access to open meetings of NSF advisory committees, open sessions of the National Science Board meetings, and other meetings open to the public and convened by NSF, as well as permission to reasonably use tape recorders, cameras, and electronic equipment for broadcast purposes in these public meetings.

The public affairs officer coordinating a meeting may be present, or consulted, to undertake all responsibilities of a news media nature, including but not restricted to necessary physical arrangements.

It shall be the responsibility of the public affairs office to cooperate fully with and accede to all reasonable requests from news media representatives. In instances where conflicts or misunderstandings may arise from the expressed views, wishes, or demands on the part of news media representatives, such matters should be referred at once to the head of NSF's Office of Legislative and Public Affairs for resolution.

The head of NSF's Office of Legislative and Public Affairs shall exercise full authority and assume responsibility for all decisions involving the news media and related activity.

Media Policy: Scope

Below are examples of the types of information that NSF considers within and outside the scope of the policy guidelines. Neither of these lists should be considered comprehensive.

A. Covered Information

• NSF-funded science, engineering and education research papers, books, journal articles, reports, and similar materials, unless they have disclaimers to distinguish the research from NSF views and positions;

• NSF-generated reports, brochures, documents, newsletters, and audiovisual products;

• Oral information, including speeches, interviews, expert opinions only if representing NSF's views, official positions, or policies; and

• Science & Engineering Indicators reports of a statistical nature, which includes statistical analyses, trend data, etc., aggregated by the National Science Board and NSF's National Centers for Science & Engineering Statistics.

B. Information Not Covered

• Documents or multimedia materials not authored by NSF and not representing official views, including research supported by NSF funding;

• Opinions where the presentation makes it clear that what is being offered is personal opinion rather than fact or NSF's views;

• Information dissemination limited to government employees or agency contractors or grantees;

• Information intended solely for intra- or inter-agency use or sharing of government information, such as budget discussions, National Science Board and NSF deliberations, and other information that serves to assess the success in achieving the agency's objectives, programs, training materials, manuals, etc.; and

• Information intended to be limited to public filings, subpoenas, or adjudicative processes.

Media Policy: Types of Information Disseminated by NSF to the Public

Annually, NSF produces hundreds of various types of outreach and communication materials and provides thousands of pages of Web content for access by the public. NSF's public affairs office works with university and institution public information offices to generate and distribute content.

Types of Dissemination

NSF disseminates information through a wide range of methods, using more than one medium for the same information. In light of the Paperwork Reduction Act of 1995, NSF strides to publish most of its print products in electronic, rather than paper, format.

• Print: Including limited quantities of NSF's Strategic Plan, Science & Engineering Indicators, National Science Board special reports, etc.;

• Electronic: Such as NSF Web sites, Listservs, e-mail, social media sites such as Facebook, Twitter, YouTube and FlickR;

• Audiovisual: Audio or video programs, media webcasts, slideshows, powerpoint presentations by the agency Director and Deputy Director; and

• Oral: Formal speeches, oral presentations, lectures, and interviews for publication or broadcast.

Media Policy: Guidelines for the Media

NSF's public affairs office has established these guidelines. They are available online at http://nsf.gov/news/policies_for_media.jsp.

When seeking information about NSF, or interviews with NSF leadership or staff, we ask that media contact Public Affairs for assistance. Our Public Affairs media team members, their contact information and the “beats” they cover are listed at http://www.nsf.gov/news/olpastaff.jsp.

When you interview a member of NSF leadership or staff, a member of the media team may sit in/listen in on the interview. Our goal is to support the interviewee and to assist you with any follow-up information needed.

If you contact us during normal business hours (East Coast time), you can expect a return call or message as soon as possible, within 30 minutes of your call or message, or at the most, the same day. We will do all we can to respond to your query by your deadline.

We will always provide you with accurate information and will work to put you directly in contact with the best expert to respond to your questions. Be aware that there are circumstances where the information we can provide is limited. These include details about possible or ongoing investigative work, pre-decisional budget data, and NSF personnel records.

When we provide editorial content to media, as with our partnerships with LiveScience.com and U.S. News and World Report, the content is clearly labeled as such.

We encourage you to make use of resources available on our Web site. Images and video in our press releases and Discovery feature stories are generally available for your use. Credit information and any restrictions on use will be listed with the image or video. Our Multimedia Gallery at http://www.nsf.gov/news/mmg/ offers images, videos and audio files, and is searchable by topic. Remember to check for credit information and any restrictions on use.

Our National Center for Science and Engineering Statistics (NCSES) site at http://www.nsf.gov/statistics/ provides useful statistics about the science and engineering enterprise, and links to the biennial Science and Engineering Indicators, published by the National Science Board.

III. Use of Federal Advisory Committees (FAC)

NSF's scientific advisory committees provide advice and recommendations to NSF concerning support for science research and education. This may include advice on program management, overall program balance, and other aspects of program performance; on the impact of NSF research support and NSF-wide policies on the scientific community; and on potential science and research thrusts, long-range plans and partnership opportunities.

Currently NSF invites suggestions for FAC membership on the NSF Web page (http://www.nsf.gov/about/performance/dir_advisory.jsp). NSF plans to revise the text on this page for consistency with the OSTP Memorandum. In addition, NSF plans to issue a Federal Register notice at least once a year to alert a wider audience to the NSF Advisory Committees. Since vacancies come up on an ad hoc basis, this Federal Register notice would cover NSF's scientific Advisory Committees and refer persons interested in serving as members or recommending members to the point of contact for the specific Committee.

NSF provides biographical information for some but not all FAC members. NSF will ensure that the practice is consistent across the agency.

Selection of FAC members is at the discretion of the Assistant Director/Office Head or some combination of these senior management officials. The NSF leadership plans to devote an annual senior management session to discuss expectations and best practices for FAC member selection.

The NSF Designated Agency Ethics Official will provide copies of all Conflict of Interest waivers granted to FAC members to the respective Designated Federal Official to be posted on the appropriate FAC Web site.

NSF will use the following disclaimer on all FAC reports, recommendations, and products, unless there is prior agreement to do otherwise:

The function of Federal advisory committees is advisory only. Any opinions, findings, conclusions, or recommendations expressed in this material are those of the Advisory Committee, and do not necessarily reflect the views of the National Science Foundation.

IV. Professional Development of Government Scientists and Engineers

NSF has a strong commitment to ensuring that its staff remains at the cutting edge of the nation's workforce by fostering a culture of continuous learning. To that end, NSF permits staff (including scientists and engineers) to pursue research and developmental activities related to NSF's mission and goals such as attending or giving presentations at conferences or involvement in committees on Government time.

NSF also allows its staff to participate in any research or educational institution, scientific society, professional association or editorial board, provided written permission is obtained from the scientist's or engineer's supervisor or ethics counselor.

V. Implementation

NSF plans to develop a single, easily accessible Web site for Scientific Integrity with appropriate links and points of contact. NSF plans to follow the OSTP guidelines for Federal Advisory Committees as outlined in Section II above and will offer appropriate training to staff on implementation. These steps will be taken by December 31, 2011.

Dated: July 29, 2011.
Suzanne H. Plimpton,
Reports Clearance Officer, National Science Foundation.

[FR Doc. 2011-19701 Filed 8-3-11; 8:45 am]

BILLING CODE 7555-01-P